FEDERAL COMMUNICATIONS COMMISSION

Notice of Public Information Collection(s) Being Submitted to OMB for Review and Approval

September 13, 2000.

SUMMARY: The Federal Communications Commission, as part of its continuing effort to reduce paperwork burden invites the general public and other Federal agencies to take this opportunity to comment on the following information collection, as required by the Paperwork Reduction Act of 1995, Public Law 104-13. An agency may not conduct or sponsor a collection of information unless it displays a currently valid control number. No person shall be subject to any penalty for failing to comply with a collection of information subject to the Paperwork Reduction Act (PRA) that does not display a valid control number. Comments are requested concerning (a) whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Written comments should be submitted on or before October 30, 2000. If you anticipate that you will be submitting comments, but find it difficult to do so within the period of time allowed by this notice, you should advise the contact listed below as soon as possible.

ADDRESSES: Direct all comments to Les Smith, Federal Communications Commission, Room 1-A804, 445 12th Street, S.W., Washington, DC 20554 or via the Internet to lesmith@fcc.gov.

FOR FURTHER INFORMATION CONTACT: For additional information or copies of the information collections contact Les Smith at (202) 418-0217 or via the Internet at lesmith@fcc.gov.

SUPPLEMENTARY INFORMATION:

OMB Control Number: 3060-0441.

Title: Section 90.621(b)(4), Selection and Assignment of Frequencies.

Form Number: N/A.

Type of Review: Revision of a currently approved collection.

Respondents: Business or other for-profit entities; Not-for-profit institutions; and State, local, or tribal Governments.

Number of Respondents: 250.

Estimate Time Per Response: 0.5 to 1.5 hours.

Frequency of Response: On occasion reporting requirements.

Total Annual Burden: 425 hours.

Total Annual Costs: $15,000.

Needs and Uses: The Commission requires applicants wishing to locate co-channel systems less than 70 miles from an existing system operating on the same channel to make a specific request and provide certain information about the co-channel to satisfy the mileage separation requirements, as provided under 47 U.S.C. 154(i) and 390(j), as amended. If the requested distance falls within the parameters of the Table provided in the rules, no waiver of the short spacing rule is required. If the request is for a distance less than those prescribed in the Table, a waiver of the short spacing rules is required from the Commission. Incumbent licensees seeking to utilize an 18 dBMU signal strength interference countour and that are unsuccessful in obtaining the consent of affected co-channel incumbents, may submit to any certified frequency coordinator of 800 MHz band channels an engineering study showing that interference will not occur, together with proof that the incumbent licensee has sought consent. The incumbent may then provide to the Commission in their modification applications a statement from a certified frequency coordinator that no harmful interference will occur to a co-channel licensee.

Federal Communications Commission.
Magalie Roman Salas,
Secretary.

[FR Doc. 00-24967 Filed 9-28-00; 8:45 am]

BILLING CODE 6712-01-U